TENNESSEE VALLEY AUTHORITY

Meeting of the TVA Regional Resource Stewardship Council

AGENCY: Tennessee Valley Authority (TVA).

ACTION: Notice of meeting.

SUMMARY: The TVA Regional Resource Stewardship Council (RRSC) will hold a meeting on October 9 and October 10, 2008, to obtain views and advice on the topic of TVA's Commercial and Dispersed Recreation Strategy and its Violations & Encroachments Strategy.

The RRSC was established to advise TVA on its natural resource stewardship activities. Notice of this meeting is given under the Federal Advisory Committee Act, 5 U.S.C. App. 2, (FACA).

The meeting agenda includes the following:

(1) TVA Updates;

(2) TVA's Environmental Policy and a summary of the RRSC Recom- mendations on Stewardship Issues;

(3) TVA's Commercial Recreation Strategy;

(4) TVA's Dispersed Recreation Strategy;

(5) TVA's Violations & Encroachments Strategy;

(6) Public Comments;

(7) Council Discussion and Advice.

The TVA Regional Resource Stewardship Council will hear opinions and views of citizens by providing a public comment session. The public comment session will be held at 9:30 a.m., EDT, on Friday, October 10. Persons wishing to speak are requested to register at the door by 9 a.m., EDT, on October 10 and will be called on during the public comment period. Handout materials should be limited to one printed page. Written comments are also invited and may be mailed to the Regional Resource Stewardship Council, Tennessee Valley Authority, 400 West Summit Hill Drive, WT 11B, Knoxville, Tennessee 37902.

DATES: The meeting will be held on Thursday, October 9, 2008, from 8:30 a.m. to 4:15 p.m., EDT, and on Friday, October 10, 2008, from 8 a.m. to 12:30 p.m., EDT.

ADDRESSES: The meeting will be held in the Auditorium of the TVA Headquarters at 400 West Summit Hill Drive, Knoxville, Tennessee 37902, and will be open to the public. Anyone needing special access or accommodations should let the contact below know at least a week in advance.

FOR FURTHER INFORMATION CONTACT: Beth Keel, 400 West Summit Hill Drive, WT 11B, Knoxville, Tennessee 37902, (865) 632-6113.

Dated: September 5, 2008.
Peyton T. Hairston, Jr.,
Senior Vice President, Corporate Responsibility & Diversity, Tennessee Valley Authority.

[FR Doc. E8-21201 Filed 9-10-08; 8:45 am]

BILLING CODE 8120-08-P